DEPARTMENT OF COMMERCE

International Trade Administration

United States Travel and Tourism Promotion Advisory Board

AGENCY: International Trade Administration, Department of Commerce.

ACTION: Notice of open meeting.

Dates: April 16, 2004.

Time: 10 a.m.-12 p.m

Place: Capital Hilton—Senate Room, 1001 16th Street, NW., Washington, DC 20036.

SUMMARY: The United States Travel and Tourism Promotion Advisory Board (“Board”) will hold a Board meeting on April 16, 2004 at the Capital Hilton Hotel.

The Board will discuss the design, development and subsequent implementation of an international advertising and promotional campaign, which will seek to encourage individuals from the United Kingdom to travel to the United States for the express purpose of engaging in tourism. The meeting will be open to the public. Time will be permitted for public comment. To sign up for public comment, please contact Julie Heizer by 5 p.m. EDT Wednesday, April 14, 2004. She may be contacted at U.S. Department of Commerce, 1401 Constitution Avenue, NW., Room 7025, Washington, DC 20230; via fax at (202) 482-2887; or, via e-mail at promotion@tinet.ita.doc.gov.

Written comments concerning Board affairs are welcome any time before or after the meeting. Written comments should be directed to Julie Heizer. Minutes will be available within 90 days of this meeting.

The Board is mandated by Pub. L. 108-7, Section 210. As directed by Pub. L. 108-7, Section 210, the Secretary of Commerce shall design, develop and implement an international advertising and promotional campaign, which seeks to encourage individuals to travel to the United States. The Board shall recommend to the Secretary of Commerce the appropriate coordinated activities for funding. This campaign shall be a multi-media effort that seeks to leverage the Federal dollars with contributions of cash and in-kind products unique to the travel and tourism industry. The Board was chartered in August of 2003 and will expire on August 8, 2005.

For further information, phone Julie Heizer, Office of Travel and Tourism Industries (OTTI), International Trade Administration, U.S. Department of Commerce at (202) 482-0140. This meeting is physically accessible to people with disabilities. Requests for sign language interpretation or other auxiliary aids should be directed to OTTI.

Dated: March 23, 2004.
Julie Heizer,
Deputy Director for Industry Relations, Office of Travel and Tourism Industries.

[FR Doc. 04-6867 Filed 3-26-04; 8:45 am]

BILLING CODE 3510-25-P